DEPARTMENT OF ENERGY

Federal Energy Regulatory Commission

Docket Nos. RP00-327-007 and RP00-604-007]

Columbia Gas Transmission Corporation; Notice Of Segmentation Report

June 9, 2005.

Take notice that on June 1, 2005, Columbia Gas Transmission Corporation (Columbia) tendered for filing its segmentation report reflecting all segmentation activity that transpired on its system during the first year the program was in place. Columbia states that it filed the segmentation report in compliance with an order issued July 19, 2002 (100 FERC ¶§ 61,084 (2002), order on reh'g and clarification, 104 FERC ¶ 61,168 (2003)) in its Order No. 637 proceeding. Columbia further indicates that it is also providing a first-year report on its experience administering the secondary point priority allocation methodology.

Columbia states that it is considering the merger of the segmentation pool into the Rate Schedule IPP (Interruptible Paper Pool) in order to create one virtual pool on its system that will exist along with the physical pooling points provided under Rate Schedule AS (Aggregation Service). Columbia described the option for the merger and requested comment by all interested parties. Columbia further states that it is willing to hold a customer meeting to further explore the merger concept, to the extent adequate customer support exists to make such discussions worthwhile. Columbia also requests that the Commission accept its first-year report on segmentation and secondary point priority allocation.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. eastern time on June 21, 2005.

Magalie R. Salas,
Secretary.

[FR Doc. E5-3090 Filed 6-15-05; 8:45 am]

BILLING CODE 6717-01-P